DEPARTMENT OF COMMERCE

Economic Development Administration

[Docket No.: 100429201-0201-01]

Solicitation of Applications for the i6 Challenge Under EDA's Economic Adjustment Assistance Program

AGENCY: Economic Development Administration (EDA), Department of Commerce.

ACTION: Notice and request for applications.

SUMMARY: The i6 Challenge is a new, multi-agency innovation competition led by the U.S. Department of Commerce (DOC) and its Economic Development Administration (EDA). EDA intends to fund implementation grants for technical assistance through its Economic Adjustment Assistance Program under the i6 Challenge. The DOC and EDA will coordinate this funding opportunity with the National Institutes of Health (NIH), the National Science Foundation (NSF), and the U.S. Patent and Trademark Office (USPTO) to leverage federal resources and maximize available funding to i6 Challenge winners. The i6 Challenge is designed to encourage and reward innovative, ground-breaking ideas that will accelerate technology commercialization and new venture formation across the United States, for the ultimate purpose of helping to drive economic growth and job creation. To accomplish this, the i6 Challenge targets sections of the research-to-deployment continuum that are in need of additional support, in order to strengthen regional innovation ecosystems. Applicants to the i6 Challenge are expected to propose mechanisms to fill in existing gaps in the continuum or leverage existing infrastructure and institutions, such as economic development organizations, academic institutions, or other non-profit organizations, in new and innovative ways to achieve the i6 objectives.

DATES: Applicants (defined below) must submit their applications no later than 11:59 p.m. EDT on July 15, 2010 in order to be considered for funding. Letters of intent to participate are strongly encouraged and must be sent to i6@doc.gov no later than 11:59 p.m. EDT on June 15, 2010. Winning Applicants should expect to receive grant awards by fall of 2010. EDA will hold an online information session at 2:00 p.m. Eastern time on May 17, 2010 to answer questions about the i6 Challenge. More details on the session will be posted at the i6 Challenge website at http://www.eda.gov/i6.

Application Submission Requirements: Applicants are advised to read carefully the instructions contained in section IV of the Federal Funding Opportunity (FFO) announcement for this request for applications. To access the FFO announcement, please see the websites listed below under “Electronic Access.”

Applications may be submitted only in electronic form, either (i) in accordance with the procedures provided on http://www.grants.gov; or (ii) if Grants.gov produces an error message as an Applicant tries to apply via the Web site, then in PDF format via e-mail to i6@doc.gov. EDA will not accept facsimile transmissions of applications. Applicants applying electronically through http://www.grants.gov may access the application package by following the instructions provided on http://www.grants.gov. See the FFO for more details on how to apply via http://www.grants.gov.

The preferred file format for electronic attachments (e.g., the Project Narrative and attachments to Form ED-900) is portable document format (PDF); however, EDA will accept electronic files in Microsoft Word, WordPerfect, or Excel formats.

Applicants should access the following link for assistance in navigating http://www.grants.gov and for a list of useful resources: http://www.grants.gov/help/help.jsp. If you do not find an answer to your question under “Applicant FAQs,” try consulting the “Applicant User Guide.” If you still cannot find an answer to your question, contact http://www.grants.gov via e-mail at support@grants.gov or telephone at 1-800-518-4726.

FOR FURTHER INFORMATION CONTACT: For additional information please send questions via e-mail to i6@doc.gov. EDA's Web site at http://www.eda.gov/i6 also has information on EDA and the i6 Challenge.

SUPPLEMENTARY INFORMATION:

Program Information: EDA's mission is to lead the federal economic development agenda by promoting innovation and competitiveness, preparing American regions for growth and success in the worldwide economy. Under the i6 Challenge, EDA solicits competitive applications to increase and accelerate technology commercialization in regions across the United States. Applicants are expected to leverage regional strengths, capabilities, and competitive advantages. Furthermore, they are expected to identify a real or persistent problem or an unaddressed opportunity with a sense of urgency, cultivate strong public-private partnerships, provide a credible plan to access resources, demonstrate how the effort will be sustained, and bring together a well-qualified team and partners.

EDA encourages the submission of applications that will significantly benefit regions with distressed economies. Distress may exist in a variety of forms, including high levels of unemployment, low income levels, large concentrations of low-income families, and significant declines in per capita income because of large numbers (or high rates) of business failures, sudden major layoffs or plant closures, military base closures, natural or other major disasters, depletion of natural resources or reduced tax bases, and substantial loss of population because of the lack of employment opportunities.

Electronic Access: The FFO announcement for the i6 Challenge is available at http://www.grants.gov and at http://www.eda.gov/InvestmentsGrants/FFON.xml.

Statutory Authority: EDA's authorizing statute is the Public Works and Economic Development Act of 1965, as amended (42 U.S.C. 3121 et seq.) (PWEDA). The specific authority for the Economic Adjustment Assistance Program is section 209 of PWEDA (42 U.S.C. 3149), which authorizes EDA to make grants for economic adjustment assistance. EDA's regulations at 13 CFR parts 300-302 and subpart A of 13 CFR part 307 set out the general and specific regulatory requirements applicable to the Economic Adjustment Assistance Program.

EDA's regulations are codified at 13 CFR chapter III. The regulations and PWEDA are accessible on EDA's Web site at http://www.eda.gov/InvestmentsGrants/Lawsreg.xml.

Funding Availability: Funding appropriated under the Consolidated Appropriations Act, 2010 (Pub. L. No. 111-117, 123 Stat. 3034 at 3114 (2009)) is available for the economic development assistance programs authorized by PWEDA and for the Trade Adjustment Assistance for Firms Program under the Trade Act of 1974, as amended (19 U.S.C. 2341 et seq.). Funds in the amount of $255,000,000 have been appropriated for FY 2010 and shall remain available until expended. For FY 2010, EDA will allocate a total of $6,000,000 for this competitive solicitation. EDA will make at least six awards of up to $1,000,000, one in each of its six regions. The i6 Challenge awards will be made pursuant to grant agreements. The project period of each award is not to exceed two years. These award funds are anticipated to be available until expended.

The funding periods and funding amounts referenced in this competitive solicitation are subject to the availability of funds at the time of award, as well as to Department of Commerce and EDA priorities at the time of award. The Department of Commerce and EDA will not be held responsible for application preparation costs if the i6 Challenge fails to receive funding or is cancelled because of agency priorities. Publication of this competitive solicitation does not obligate the Department of Commerce or EDA to award any specific grant or cooperative agreement or to obligate all or any part of available funds.

EDA hopes to be able to fund at least one winning Applicant in each EDA region. Subject to the availability of funding at the time of award, the funds allocated to the i6 Challenge are anticipated to be available until expended.

Catalog of Federal Domestic Assistance (CFDA) Number: 11.307, Economic Adjustment Assistance.

Definitions: For purposes of this FFO, the following terms shall have the following meanings:

1. Applicant means the party(ies) submitting the application to EDA for funding, who is/are either a (i) non-profit organization formed by a team of more than one individual or entity, or (ii) combination of entities that satisfy the eligibility requirements described in section 3 of PWEDA (42 U.S.C. 3122) and 13 CFR 300.3 and that apply jointly as co-applicants to EDA for a single award.

2. Matching Share means the monetary value of the Applicant's committed cash matching funds or in-kind contributions, all of which must be from non-federal sources.

3. SBIR Grantee means a recipient of a Small Business Innovation Research grant from the National Institutes of Health or the National Science Foundation.

4. Partner means any individual or entity, working with an Applicant, who has provided a letter of commitment to contribute to the accomplishment of that Applicant's proposed objectives.

Applicant Eligibility: Pursuant to PWEDA, only the following types of entities are eligible to receive funding assistance from EDA:

1. District Organization (as defined in 13 CFR 304.2);

2. Indian Tribe or a consortium of Indian Tribes;

3. State, city, or other political subdivision of a State, including a special purpose unit of a State or local government engaged in economic or infrastructure development activities, or a consortium of political subdivisions;

4. Institution of higher education or a consortium of institutions of higher education; or

5. Public or private non-profit organization or association acting in cooperation with officials of a political subdivision of a State.¹

¹ For projects of significant regional or national scope, EDA may waive the requirement that a non-profit organization demonstrate it is acting in cooperation with officials of a political subdivision of a State. See 13 CFR 301.2(b) and 307.5(b).

See section 3 of PWEDA (42 U.S.C. 3122) and 13 CFR 300.3.

In addition to satisfying these statutory requirements, in order to be eligible for the i6 Challenge (and as stated in the Definitions section), an Applicant must be either:

(i) A non-profit organization that is formed by a team of more than one individual or entity, including, but not limited to, entrepreneurs, universities, SBIR Grantees, foundations, or other private or non-profit organizations, or

(ii) A combination of otherwise eligible entities that apply jointly as co-applicants to EDA for a single award. Applicants (including eligible entities that form part of an Applicant) may submit more than one proposal to EDA in response to this competitive solicitation.

EDA is not authorized to provide grants directly to individuals or to for-profit entities. However, individuals or for-profit entities may form an Applicant or be Partners with Applicants.

Project Period: The project period shall not exceed two years.

Matching Share Requirement: Applicants must demonstrate a Matching Share of at least $500,000, which must be available and committed to the project from non-federal sources. EDA will give preference to applications with higher Matching Shares and to applications with higher levels of cash contributions in their Matching Share. Generally, the amount of an EDA grant may not exceed 50 percent of the total cost of the project. Projects may receive up to 80 percent of total cost, based on the relative needs of the region in which the project will be located, as determined by EDA. See section 204(a) of PWEDA (42 U.S.C. 3144) and 13 CFR 301.4(b)(1). In-kind contributions, in the form of space, equipment, or services, or forgiveness or assumptions of debt, may provide the required matching requirement. See section 204(b) of PWEDA (42 U.S.C. 3144), 13 CFR 301.4(b)(1), and 15 CFR 14.23 and 24.24. EDA will fairly evaluate all in-kind contributions, which must be used for eligible project costs that meet applicable federal cost principles and uniform administrative requirements. Applicants must provide letters of commitment to demonstrate that the Matching Share is committed to the project for the project period, will be available as needed, and is not conditioned or encumbered in any way that precludes its use consistent with the requirements of EDA investment assistance. See 13 CFR 301.5.

Intergovernmental Review: Applications for funding under the i6 Challenge are subject to the State review requirements imposed by Executive Order 12372, “Intergovernmental Review of Federal Programs,” where applicable.

Evaluation and Selection Procedures: Throughout the review and selection process, EDA reserves the right to seek clarification in writing from Applicants whose applications are being reviewed and considered.

1. Responsiveness Review

EDA will review all applications for responsiveness. Applications that are ineligible for EDA funding or that do not contain all forms and narratives listed in Section IV of the FFO announcement will be deemed non-responsive and excluded from further consideration.

2. Merit Review by EDA Review Panels

EDA will convene a panel of federal employees in each of its six regions to review the merits of each application submitted within that region. Using the evaluation criteria listed in Section V.A. of the FFO announcement, the panels will identify the top five applications in each region.

3. Merit Review by NSF Peer Review Panels

Each region's top five applications will be subject to external peer review by NSF. NSF will convene panels of external peer reviewers to discuss the merits and shortcomings of each application, using the evaluation criteria in this notice and further detailed in Section V.A of the FFO announcement. Applications will be reviewed in a fair, competitive, and in-depth manner pursuant to NSF peer review policies and guidelines set forth at http://www.nsf.gov/bfa/dias/policy/meritreview. The peer review panels will summarize and make recommendations to be presented to the Selection Committee (defined below) for discussion and consideration.

4. Joint Selection Committee Review

Upon completion of the NSF peer review, a selection committee (“Selection Committee”), which will be composed of senior officials from the Department of Commerce, NIH, and NSF, will review the findings and recommendations of the EDA review panels and NSF peer review panels. Then it will either (i) rank the top five applications in each region and forward this ranked list to the Selecting Official (defined below), or (ii) identify any deficiencies in the review process and convene a new EDA review panel in the applicable region(s) to restart the selection process in those region(s). If directed by the Selection Committee to re-evaluate the applications in a particular region, a new EDA review panel will perform a merit review and submit the top five applications in the region with new findings and recommendations to a NSF peer review panel and subsequent referral to the Selection Committee.

Selecting Official and Policy factors: EDA expects to fund the highest ranking applications. The Regional Director in each EDA region will be the Selecting Official for the award to be made within his region. The Selecting Official may follow the recommendations of the Selection Committee; however, the Selecting Official retains the discretion not to make a selection in any region, or to select an application out of order in any region for any of the following reasons:

1. Availability of program funding;

2. A determination that the application better meets the overall objectives of section 2 and 209 of PWEDA (42 U.S.C. 3121 and 3149); or

3. The Applicant's performance under previous federal financial assistance awards.

If the Selecting Official makes a selection out of order, he will document the rationale for the decision in writing. Each Selecting Official will submit his decision to EDA headquarters for review before making the final selection.

Evaluation Criteria: Review Panels, convened pursuant to Section V of the FFO announcement, will evaluate applications based on the following criteria, which will be weighted equally:

1. Merit

The extent to which Applicants demonstrate:

• A clear understanding of a real or persistent problem or an unaddressed opportunity and its urgency;

• Creative or even potentially transformative models or solutions and how the proposal is different from those that are funded by other government agencies;

• A clear understanding of the challenges facing the region's entrepreneurs and innovators;

• A “roadmap” for filling the gaps in the research-to-commercialization continuum and eliminating obstacles to commercialization; and

• Alignment with EDA investment priorities, as described at http://www.eda.gov/InvestmentsGrants/InvestmentPriorities.xml.

2. Feasibility

The extent to which Applicants demonstrate:

• A coherent plan to leverage regional strengths, mitigate regional weaknesses, and capitalize on strategic opportunities while minimizing short- and long-term threats;

• A sound strategy to support entrepreneurs and innovators at appropriate phase(s) of the process, that could include assessments for commercialization potential, patenting, licensing, venture formation, financing, and marketing;

• Adequate financial resources to ensure robust institutional capacity, as well as access to capital for high-growth firms;

• Strong potential to become self-sustaining, even without significant future federal funding;

• Long-term, broad, and deep commitment from private and public sector leaders throughout the region, and strong participation and buy-in from stakeholders; and

• Qualified personnel that, as a group, demonstrate project management expertise, as well as demonstrated success in protecting, licensing, and commercializing intellectual property.

3. Impact

The extent to which Applicants demonstrate:

• Quantifiable benefits that go beyond the Applicant and benefit the regional economy;

• The extent to which infrastructure for commercialization and enterprise formation will be enhanced; and

• A clear understanding of how the model or solution could be replicated elsewhere.

Information Session: Please be advised that the informational teleconferences may be audio-taped and the actual recordings or a transcript of the actual recording may be made available online or otherwise for the benefit of prospective applicants unable to participate. Prospective applicants who participate on the teleconferences are deemed to consent to the taping.

The Department of Commerce Pre-Award Notification Requirements for Grants and Cooperative Agreements: Administrative and national policy requirements for all Department of Commerce awards are applicable to this competitive solicitation. These requirements may be found in the Department of Commerce Pre-Award Notification Requirements for Grants and Cooperative Agreements, which was published in the Federal Register on February 11, 2008 (73 FR 7696). This notice may be accessed by entering the Federal Register volume and page number provided in the previous sentence at the following Web site: http://www.gpoaccess.gov/fr/index.html.

Paperwork Reduction Act: This document contains the following collections of information subject to the Paperwork Reduction Act (PRA) and approved by the Office of Management and Budget (OMB): (i) Form ED-900 (OMB Control No. 0610-0094); (ii) Form SF-424 (OMB Control No. 4040-0004); (iii) Form SF-424A (OMB Control No. 4040-0006); (iv) Form SF-424B (OMB Control No. 4040-0007); (v) Form SF-LLL (OMB Control No. 0348-0046). This document contains the following collections of information subject to the Paperwork Reduction Act (PRA) and approved by the Office of Management and Budget (OMB): (i) Form ED-900 (OMB Control No. 0610-0094); (ii) Form SF-424 (OMB Control No. 4040-0004); (iii) Form SF-424A (OMB Control No. 4040-0006); (iv) Form SF-424B (OMB Control No. 4040-0007); (v) Form SF-LLL (OMB Control No. 0348-0046). The documents that are listed in section IV.B of the FFO announcement have been approved by OMB under the following respective forms/control numbers. Specifically, the Project Narrative, Biographies of Key Individuals and Letter(s) of commitment from any Partner(s) are supplemental information requested by Form SF-424 and approved under OMB Control No. 4040-0004. The Letter(s) of commitment for Matching Share; Budget Narrative; Facilities and Administrative Cost Rate Agreement; and Staffing Plan are supplemental information requested by Form SF-424A and approved under OMB Control No. 4040-0006. The collection of a Comprehensive Economic Development Strategy is requested by ED-900 and approved under OMB Control No. 0610-0094. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: April 29, 2010.
John R. Fernandez,
Assistant Secretary of Commerce for Economic Development, Economic Development Administration.

[FR Doc. 2010-10433 Filed 5-3-10; 8:45 am]

BILLING CODE 3510-24-P